DEPARTMENT OF LABOR

Employment and Training Administration

[TA-W-52,528]

A & E Products, a Tyco International Ltd. Company, Ringtown, PA;

Notice of Termination of Investigation Pursuant to Section 221 of the Trade Act of 1974, as amended, an investigation was initiated on August 12, 2003 in response to a worker petition filed on behalf of workers at A & E Products, A Tyco International Ltd. Company, Ringtown, Pennsylvania.

The petitioners have requested that the petition be withdrawn. Consequently, the investigation has been terminated.

Signed at Washington, DC, this 22nd day of September, 2003.
Richard Church,
Certifying Officer, Division of Trade Adjustment Assistance.

[FR Doc. 03-27453 Filed 10-30-03; 8:45 am]

BILLING CODE 4510-30-P